DEPARTMENT OF THE INTERIOR

Bureau of Indian Affairs

25 CFR Part 151

RIN 1076-AD90

Acquisition of Title to Land in Trust; Delay of Effective Date; Correction

AGENCY: Bureau of Indian Affairs, Interior.

ACTION: Correction to final rule.

SUMMARY: This document corrects the final rule published on Monday, February 5, 2001 (66 FR 8899). The February 5th rule delayed the effective date of the rule entitled “Acquisition of Title to Land in Trust,” published in the Federal Register on January 16, 2001, at 66 FR 3452.

EFFECTIVE DATE: February 20, 2001.

FOR FURTHER INFORMATION CONTACT: Terry Virden, Director, Office of Trust Responsibilities, Mail Stop: 4513-MIB, 1849 “C” Street NW., Washington, DC 20240; telephone: 202-208-5831; electronic mail: TerryVirden@BIA.GOV.

SUPPLEMENTARY INFORMATION: On January 20, 2001, the Assistant to the President and Chief of Staff signed a memo to the heads of all executive Departments and agencies entitled “Regulatory Review Plan.” (This memo was published in the Federal Register on January 24, 2001, at 66 FR 7701). To comply with this memo, we must delay for 60 days the effective date of any final rule that was published but not yet effective on or before January 20, 2001. On February 5th we published a final rule to delay the effective date of a rule titled “Acquisition of Title to Land in Trust.” (We published the original “Acquisition of Title to Land in Trust” rule in the Federal Register on January 16, 2001, at 66 FR 3452.) In the DATES section of our February 5th rule, we incorrectly stated two dates, as shown in the following table:

In the February 5 rule we said that | What we should have said was
The effective date of the January 16 rule was January 16 | The effective date of the January 16 rule was February 15.
The new, delayed effective date of the January 16 rule was March 17 | The new, delayed effective date of the January 16 rule was April 16.

The delayed effective date that we published on February 5 would postpone the effective date for only 30 days, rather than the required 60 days. In this correction, we are making the following changes to the rule that we published on February 5th:

(1) Correcting the original effective date of the January 16 rule from January 17, 2001 to February 15, 2001; and

(2) Correcting the delayed effective date of the January 16 rule from March 17, 2001, to April 16, 2001.

Need for Correction

As published, the final rule contains errors that may prove to be misleading and are in need of correction.

Correction of Publication

Accordingly FR document 01-2963, published on February 5, 2001, is corrected as follows: On page 8899, in the first column, the material in the DATES heading is corrected to read in its entirety as follows:

DATES: The effective date of the Acquisition of Title to Land in Trust rule, amending 25 CFR part 151, published in the Federal Register on January 16, 2001, at 66 FR 3452, is delayed for 60 days, from February 15, 2001, to a new effective date of April 16, 2001.

Dated: February 13, 2001.
Timothy S. Elliott,
Acting Deputy Solicitor.

[FR Doc. 01-4095 Filed 2-16-01; 8:45 am]

BILLING CODE 4310-02-M